DEPARTMENT OF HEALTH AND HUMAN SERVICES

Administration for Children and Families

[Program Announcement No. ACYF/HS-2001-07]

Fiscal Year 2001 Discretionary Announcement for Head Start Family Worker Training and Credentialing Initiative; Availability of Funds and Request for Applications

AGENCY: Administration on Children, Youth and Families (ACYF), ACF, DHHS.

ACTION: Notice.

SUMMARY: The Administration for Children and Families (ACF), Administration on Children, Youth and Families (ACYF) announces the availability of $1,000,000; up to $100,000 per project for one year to support up to ten entities to design and/or adapt competency-based training programs and curricula suitable for the training and credentialing of Head Start Family Worker Staff. Academic institutions, other training providers, and public or private non-profit or for-profit organizations are eligible to apply for projects, which will be funded on a competitive basis.

Applicants must provide assurances that if they receive funds under the announcement, the model training program required as part of the final report described in the section of this announcement entitled: Expectations and Requirements for Family Worker Training and Credentialing Projects will be established as part of the grantee's regular curricular offerings no later than one year from the date of submission of the report.

DATES: The closing date for receipt of applications is 5:00 P.M. EDT, July 2, 2001.

ADDRESSES: Mail applications to: Head Start Family Worker Training and Credentialing Initiative, ACYF Operations Center, 1815 North Fort Myer Drive, Suite 300, Arlington, Virginia 22209.

Hand delivered courier or overnight delivery applications are accepted during the normal working hours of 8:00 a.m. to 5:00 p.m., Monday through Friday, on or prior to the established closing date.

All packages should be clearly labeled as follows:

Application for Head Start Family Worker Training and Credentialing Initiative

FOR FURTHER INFORMATION CONTACT: The Head Start Discretionary Grant Support Team (1-800-351-2293) is available to answer questions concerning application requirements and to refer you to the appropriate contact person in ACYF for programmatic questions. You may e-mail your questions to: hs@lcgnet.com.

In order to determine the number of expert reviewers that will be necessary, if you plan to submit an application, you are requested to send a post card or call with the following information: the name, address, telephone and fax numbers, and e-mail address of the project director and the name of the applicant at least four weeks prior to the submission deadline date to: Head Start Family Worker Training and Credentialing Initiative, ACYF Operations Center, 1815 North Fort Myer Drive, Suite 300, Arlington, Virginia 22209.

Fiscal Year 2001 Discretionary Announcement for Head Start Family Worker Training and Credentialing Initiative

Table of Contents

This program announcement is divided into five sections:

Part I contains general information and an introductory section that describes the background of various Head Start initiatives supporting professional development, the target audience of this initiative, and the Head Start Bureau's expectations regarding this initiative and next steps.

Part II contains key program information such as a description of competitive categories, eligible applicants, project periods and applicable Head Start regulations.

Part III contains the requirements for information that must be included in each application.

Part IV contains the criteria upon which applications will be reviewed and evaluated.

Part V contains a discussion of the application process.

Appendix A includes the relevant application forms, certifications, disclosures and assurances necessary for completing and submitting the application.

Appendix B contains a listing of Competency Goals and Indicators for Head Start Staff Working with Families.

Appendix C includes a listing of the Head Start Quality Improvement Centers. The Head Start Quality Improvement Centers and Disability Services Quality Improvement Centers form a regionally-based system, composed of institutions and organizations whose common purpose is to support the continuous improvement of all grantees and delegate agencies as they work to provide high quality and effective services to children and families and address the emerging priorities of child care partnerships, Head Start expansion and welfare reform. The Training and Technical Assistance reflects a national commitment to quality improvement, local capacity-building and ongoing evaluation.

Part I. Purpose and Background

A. Purpose

The purpose of this announcement is to solicit applications for grants for the design and/or adaptation of competency-based training programs appropriate for utilization in a national Head Start Family Worker Training and Credentialing Initiative. Grants will be awarded to develop methodologies and approaches to enhance the skills, knowledge, and effectiveness of Family Services staff who are working with parents and young children in Head Start and Early Head Start, and other early childhood and child care family support programs.

Organizations funded under this Announcement will work cooperatively with the Head Start Bureau, national experts, and national organizations in furthering this initiative.

Successful applicants will be expected to work collaboratively with local Head Start programs as well as with other service agencies and organizations involved in endeavors, which grant credit, degrees, and credentialing of Family Workers.

B. Background

Head Start

Head Start and Early Head Start are comprehensive child development programs which serve children from birth to age five, pregnant women, and their families. The Early Head Start program provides services to children zero to three and serves approximately 50,000 children. Head Start, which provides services to children age three to five, currently serves over 850,000 low-income families and their children through a nationwide network of approximately 2,100 grantee and delegate agencies. These agencies serve children and families through a variety of program options and service strategies including center-based, home-based, and family child care partnerships.

Note: In the balance of this document, the term “Head Start” refers to both Head Start and Early Head Start programs and staff, unless otherwise indicated.

Since its inception in 1965, Head Start has had a strong commitment and impressive success in involving, educating and supporting parents and families as an integral part of every local program. For example, recent research in a nationally representative sample of programs documented high levels of parent involvement and satisfaction: approximately 80% of all parents participate in home visits, parent-teacher conferences, classroom observations and volunteering and over 85% of parents were very satisfied with the quality of services their child received. These findings corroborate the 1999 report of the American Customers Satisfaction Index, in which Head Start received the highest rating of any government program.

Building on this strong record of success and commitment, the initiative described in this announcement is intended to continue to strengthen the quality of services to and depth of partnerships with families by enhancing the training and effectiveness of Family Workers in all Head Start programs. It complements a broad series of related efforts to improve Head Start program quality, staff credentials, and accountability, including more specific performance standards and measures in children's literacy and language development, a new focus on child outcomes in program monitoring and self-assessment, expanded funding to upgrade program quality and staff compensation, and higher qualification standards for Head Start teachers.

Family Workers in Head Start

More than 25,000 Family Workers are employed in local Head Start programs. Family Workers play a critical role in developing and supporting the implementation of Head Start's family partnership process. Through this process the family of each enrolled child has opportunities to develop and implement an individualized plan of services based on their interests and needs. In many instances, the quality of support received by families correlates with the training and qualifications of the program's Family Workers.

Collectively, Family Workers represent a group with varied levels of professional education/training and experience. Local agencies have established a range of qualifications for Family Workers varying from a Masters of Social Work (MSW) or other related degree to a High School diploma. Accordingly, some Head Start Social Services and Parent Involvement staff (known as Family and Community Partnerships staff since 1998) are college degreed as well as state licensed or credentialed. Others have received undergraduate training or on-the-job training. Some Family Workers are current or former parents of Head Start children. As might be expected, Family Workers also vary widely in characteristics such as salary levels, staffing patterns, fields of study, tenure, average salary, forms of supervision and ongoing professional development opportunities.

Family Worker Training and Credentialing Initiative

The Family Worker Training and Credentialing Initiative is designed to implement a mandate from Congress in the Head Start Act Amendments of 1994 (P.L. 103-252). This Section of the Act required that “the Secretary, in coordination with concerned public and private agencies and organizations examining the issues of standards and training for family service workers, shall * * * (1) review and, as necessary, revise or develop new qualification standards for Head Start staff providing such services; (2) promote the development of model curricula (on subjects including parenting training and family literacy) designed to ensure the attainment of appropriate competencies by individuals working or planning to work in the field of early childhood and family services; and (3) promote the establishment of a credential that indicates the attainment of the competencies that is accepted nationwide”.

To assist in planning to carry out the Congressional mandates, the Head Start Bureau in 1999 and 2000 convened five focus groups of leaders from: national organizations, local Head Start Programs including parents of past and currently enrolled children; Head Start Quality Improvement Centers; accreditation organizations and higher education institutions to discuss the needs, issues, and existing models of Head Start Worker staff training.

Among the issues and needs identified by focus group participants were the following:

• Input to the development of “Competency Goals and Indicators for Head Start Staff Working with Families” attached in Appendix B, page 27. These competencies are being communicated to Head Start agencies to assist local efforts in selecting, training, and supervising Family Workers and will provide a common framework for competency-based training models solicited via this announcement;

• Key characteristics of models for delivery of training in these competencies and approaches to link competency-based training to higher education coursework and degrees;

• The importance and challenges of creating competency-based training that is responsive to highly diverse adult learners, such as Family Workers in Head Start and child care programs with little recent experience as students, who frequently continue to work while pursuing a degree, and who may require special academic and social supports to successfully meet standards in general education and early childhood courses, and

• Recognition that with over twenty-nine percent of Head Start staff members being parents of former or current Head Start children that there is a necessity to ensure that any competency-based training program/curriculum for Family Workers is appropriate for, open to, and welcomes the parents of Head Start children so that they can attain the necessary competencies.

Expectations and Requirements for Family Worker Training and Credentialing Projects

Section 649 the Head Start Act authorizes grants for research, demonstration and collaboration activities. These grants will involve extensive investigation into areas where knowledge is currently insufficient and will be awarded pursuant to Section 649.

Based on the above legislative mandates, focus group input, and additional planning, the Head Start Bureau is issuing this grants announcement to support the development and/or adaptation of a variety of models of competency-based, credit-bearing training for Family Workers in Head Start and early childhood and family support programs. The central requirements for all projects are as follows:

• Develop competency-based training programs and curricula relevant to the work of a Head Start Family Worker based on the Head Start Program Performance Standards; the Competency Goals and Indicators for Head Start Staff Working with Families, attached in Appendix B; and include a credible approach to assessing the attainment of these competencies by individual trainees;

• Create or adapt competency-based training that is linked to academic credit and degree programs and to other forms of credentialing for Family Workers. Applicants are urged to present plans for training which provide for articulation to AA, BA, MS degree programs if the trainee decides to continue his/her education, and portability, should trainees desire to be Family Workers in other related programs;

• Develop training and curricula that is accessible and affordable for adult learners and that accommodates the training needs of current Head Start Family Workers, including former Head Start Parents who are likely to continue to work full time as they continue to participate in training towards a Family Worker credential; and

• Create state-of-the-art training and assessment strategies that will ultimately enhance the quality of program services and outcomes for the increasing diversity of low-income families served by Head Start and early childhood programs and agencies.

The Bureau is soliciting applications to develop and/or adapt competency-based training curricula and programs appropriate to the fulfillment of educational and professional growth needs of Family Worker staff nationwide, including all geographic regions as well as for staff serving Migrant and Indian families and communities. For purposes of this announcement “development” means the creation and design of a totally new competency-based, credit-based, training program. “Adaptation” means the proposed utilization of “as is” or slightly modified appropriate credit-bearing competency-based training program coursework and materials, delivery modalities, scheduling and cost factors, etc.

Innovative, realistic, forward-looking, and trainee accessible model training program designs are necessary in order to facilitate and advance the Head Start Family Worker Training Initiative. Applicants may propose developmental work such as re-shaping course materials, curriculum and teaching strategies; adapting mentoring, advisement, reflective practice, and practicum strategies, using distance learning and other forms of technology in new ways, alternate means to improve access, reduce costs, and increase the successful completion of the training sequence and demonstration of competencies by candidates; and new efforts and methods to link competency-based training and curriculum to academic credit, higher education degree programs and related credentialing systems for Family Workers. Applicants are strongly encouraged to involve Family Workers, managers, program directors from Head Start and other community-based programs and training and technical assistance providers in their grant application planning and implementation of their projects. Attachment C provides a Directory of Head Start Training and Technical Assistance providers.

Each funded project will be expected to present a comprehensive competency-based credit-bearing training program and curriculum (plus alternate designs, if any) to the Head Start Bureau at the end of this grant project period. All elements of the training program, including but not limited to recruitment, entry requirements, course content, credit hours, primary and alternate delivery modalities, time requirements, implementation plans and schedule, staffing qualifications, program and student assessments (including a method or strategy for the assessment of the competencies to be acquired by trainees), program accreditation, credentialing mechanisms, articulation plans/processes/agreements, and cost factors are to be included in this presentation. At some point in the future, the Head Start Bureau intends to require a common set of competencies and skills for Family Workers. Model curricula developed under this Announcement will be used to help determine the requisite training and credential attainment for these workers. Therefore, successful applicants are also expected to declare their intent to implement their proposed program after the end of the grant period, independent of any additional Federal support, if the Head Start Bureau determines that their model is sufficient to meet the training needs of Head Start Family Workers.

The Bureau in concert with national experts and practitioners will carry out a comprehensive review of all final submissions. The review will include examination of how proposed programs will enhance the capacities of trainees in all of the areas addressed in the Head Start Program Performance Standards and sub-areas of the eleven Family Workers “Competency Goals and Indicators” as defined in Appendix B. As a result of this review, the Bureau will examine the possible establishment and implementation of a Family Worker Training Program Resource Data Base incorporating all training programs conforming to Head Start's requirements. Those providers and programs included in the Data Base will be deemed to be responsive and appropriate for use by local program Family Worker staff in pursuing courses of studies and credentialing.

Grantees will be expected to attend a three-day Orientation Meeting regarding this Initiative in Washington D.C. to be held no later than six weeks after grant award. The Head Start Bureau and a work group of national consultants on competency-based training and credentialing will convene to engage with grantees regarding programmatic issues and Bureau expectations for this initiative. Applicants need to budget for the three-day Orientation meeting.

Part II. Program Information and Requirements

A. Statutory Authority

The Head Start Act, as amended 42 U.S.C. 9801 et seq.

B. Eligible Applicants

Applicants must be public or private institutions of higher education or nonprofit or for profit organizations with experience and knowledge in working with early childhood programs for young children birth to age five. In accordance with 45 CFR 74.81, for profit organizations must waive their profit when applying for funding under this announcement.

C. Project Duration

Awards will be made on a competitive basis and will be for a one-year period. The total project period will be one year.

D. Federal Share of Project Costs

A total of approximately $1,000,000 in ACF funds will be available.

E. Number of Projects To Be Funded

ACF will fund up to ten applicants. An individual discretionary grant will be awarded to a successful applicant in order to foster achievement of the goals of this Head Start initiative.

F. Matching Requirement

Although there are no matching requirements, applicants are encouraged to provide non-Federal contributions to the project.

Part III. Application Requirements

A. Purpose

The project description provides a major means by which an application is evaluated and ranked to compete with other applications for available assistance. The project description should be concise and complete and should address the activity for which Federal funds are being requested. Supporting documents should be included where they can present information clearly and succinctly.

In preparing your project description, all information requested through each specific evaluation criteria should be provided. Awarding offices use this and other information in making their funding recommendations. It is important, therefore, that this information be included in the application.

B. General Instructions

ACF is particularly interested in specific factual information and statements of measurable goals in quantitative terms. Project descriptions are evaluated on the basis of substance, not length. Extensive exhibits are not required. Cross-referencing should be used rather than repetition. Supporting information concerning activities that will not be directly funded by the grant or information that does not directly pertain to an integral part of the grant funded activity should be placed in an appendix.

Pages should be numbered and a table of contents should be included for easy reference.

Introduction

Applicants are required to submit a full project description and shall prepare the project description statement in accordance with the following instructions and the specified evaluation criteria. The instructions give a broad overview of what your project description should include while the evaluation criteria expands and clarifies more program-specific information that is needed.

Project Summary/Abstract

Provide a summary of the Project description (a page or less) with reference to the funding request.

C. Objectives and Need for Assistance

Clearly identify the physical, economic, social, institutional and other problems(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported or (to be initiated), some of which may be outside the scope of the program announcement.

D. Results or Benefits Expected

Identify the results and benefits to be derived.

E. Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals whom will work on the project along with a short description of the nature of their effort or contribution.

F. Additional Information

Following are requests for additional information that need to be included in the application.

1. Staff and Position Data

Provide a biographical sketch for each key person appointed and a job description for each vacant key position. A biographical sketch will also be required for new key staff as appointed.

2. Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information.

G. Third-Party Agreements

Include written agreements between the grantee and subgrantees or subcontractors or other cooperative entities. These agreements must detail scope of work to be performed, work schedules, remuneration, and other terms and conditions that structure or define the relationship.

Letters of Support

Provide statements from community, public and commerical leaders that support the project proposed for funding. All submissions should be included in the application OR by application deadline.

H. Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

“Equipment” means an article of nonexpendable, tangible personal property having a useful life or more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information, which supports the amount requested.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Total Direct Charges, Total Indirect Charges, Total Project Costs.

Self-explanatory.

Part IV Evaluation Criteria

A. Review Criteria

In considering how applicants will carry out the responsibilities addressed under this announcement, competing applications for financial assistance will be reviewed and evaluated against the following criteria:

Criterion 1. Objectives and Need for Assistance: (15 points)

The extent to which the application identifies relevant physical, economic, social, financial, institutional or other problems requiring a grant; demonstrates the need for assistance; states the principal and subordinate objectives of the project; provides supporting documentation or other testimonies from concerned interests other than the applicant.

Information provided in response to Part III, Section C. of this announcement will be used to evaluate applicants on this criterion.

Criterion 2. Results or Benefits Expected: (25 points)

The extent to which the application identifies the results and benefits to be derived; describes the anticipated contribution to policy, practice, theory and/or research; specific benefits should be described for Head Start and the whole early childhood community working with children birth through five.

The Head Start Bureau is particularly interested in the following:

1. Based on the stated program objectives, identify the results and benefits to be derived for Family Workers in Head Start, Early Head Start, and staff in other early childhood, child care and family support agencies.

2. Describe potential longer term benefits of this initiative, including enhancing participation and provision of higher education opportunities for family service staff; enhancement of relationships between higher education institutions and local early care and education programs, including Head Start; program quality, and practices and outcomes in early care child/family programs.

Information provided in response to Part III, Section D of this announcement will be used to evaluate applicants on this criterion.

Criterion 3. Approach: (50 points)

The extent to which the application outlines an acceptable plan of action pertaining to the scope of the project which details how the proposed work will be accomplished, including a timeline; lists of each organization, consultants, including the evaluator, or other key individuals who will work on the project along with a short description of the nature of their effort or contribution; assures the adequacy of time devoted to the project by key staff, the key staff should be knowledgeable of Head Start and Early Head Start, the applicant must fully describe the approach and/or methodology and delineate the relationship of each task to the accomplishment of the proposed objectives. There should be evidence that the planned approach reflects sufficient input from collaborating partners.

The Head Start Bureau is particularly interested in the following:

1. Describe the applicants' experience and capabilities in providing training to family worker staff from Head Start and early childhood and family support programs.

2. Provide a discussion of the major current and emerging challenges facing family workers, and the challenges of delivering competency-based training to current staff members.

3. Describe the planning and development process the applicant will use to develop a final design/model program and describe how Head Start and other program family workers, managers and others will be involved.

4. Discuss how other career development and higher education organizations, institutions, and providers/partners or contributors may be involved in the planning and design phase, as well as in ongoing refinement and improvement of the desired model for curricula.

5. Propose and defend an initial overall professional development strategy for Head Start Family workers and other related early childhood higher education programs, including content, and sequence of development experience, and ways to encourage applications of new knowledge, standards and best practices to the instruction of participants and their sponsoring Head Start program. Include discussion of issues such as the admission/eligibility requirements, program scheduling, accessibility, and location of activities, including explicit approaches to supporting peer networking and mentoring of participants.

6. Provide assurance that training/courses are offered at the lowest reasonable justifiable cost to trainees.

7. Indicate initial plans for the recruitment and selection of faculty or trainers who would train Family Workers. Discuss how recruitment and selection process will attract faculty/trainers with demonstrated ability to respond to the growing diversity of the population of families and children served in Head Start, Early Head Start and other early care and education programs.

Information provided in response to Part III, Sections E, F and G of this announcement will be used to evaluate applicants on this criterion.

Criterion 4. Budget and Budget Justification: (10 points)

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness and allocability of the proposed costs.

B. The Review Process

Applications received by the due date will be reviewed and scored competitively. Experts in the field, generally persons from outside the Federal government, will use the evaluation criteria listed in Part IV of this announcement to review and score the applications. The results of this review are a primary factor in making funding decisions. ACYF may also solicit comments from ACF Regional Office staff and other Federal agencies. The ACYF Commissioner may also consider a variety of all factors in funding decisions, including supporting a set of projects to serve Head Start programs and Family Workers in all geographic regions and representative of approaches to working with different types of Head Start programs, including Indian and Migrant grantees.

Part V. The Application Process

A. Required Forms

Eligible applicants interested in applying for funds must submit a complete application including the required forms included at the end of this program announcement in Appendix A. In order to be considered for a grant under this announcement, an application must be submitted on the Standard Form 424 approved by the Office of Management and Budget under Control Number 0348-0043. A copy has been provided. Each application must be signed by an individual authorized to act for the applicant and to assume responsibility for the obligations imposed by the terms and conditions of the grant award. Applicants requesting financial assistance for non-construction projects must file the Standard Form 424B, Assurances: Non-Construction Programs (approved by the Office of Management and Budget under control number 0348-0040). Applicants must sign and return the Standard Form 424B with their application. Applicants must provide a certification concerning lobbying. Prior to receiving an award in excess of $100,000, applicants shall furnish an executed copy of the lobbying certification (approved by the Office of Management and Budget under control number 0348-0046). Applicants must sign and return the certification with their application.

Applicants must make the appropriate certification of their compliance with the Drug-Free Workplace Act of 1988. By signing and submitting the application, applicants are providing the certification and need not mail back the certification with the application.

Applicants must make the appropriate certification that they are not presently debarred, suspended or otherwise ineligible for award. By signing and submitting the application, applicants are providing the certification and need not mail back the certification with the application.

Applicants must also understand that they will be held accountable for the smoking prohibition included within P.L. 103-227, Part C Environmental Tobacco Smoke (also known as The Pro-Children's Act of 1994). A copy of the Federal Register notice, which implements the smoking prohibition, is included with the forms. By signing and submitting the application, applicants are providing the certification and need not mail back the certification with the application.

B. Application Limits

The application should be double-spaced and single-sided on 8\1/2\″ × 11″ plain white paper, with 1″ margins on all sides. Use only a standard size font no smaller than 12 pitch throughout the application. All pages of the application (including appendices, resumes, charts, references/footnotes, tables, maps and exhibits) must be sequentially numbered, beginning on the first page after the budget justification, the principal investigator contact information and the Table of Contents. Although there is no limitation regarding number of pages, applicants are urged to be concise and limit applications to no more than 50 pages. Applicants are requested not to send pamphlets, brochures, or other printed material along with their applications as these pose copying difficulties. These materials, if submitted, will not be included in the review process. In addition, applicants must not submit any additional letters of endorsement beyond any that may be required.

Applicants are encouraged to submit curriculum vitae in a biographical format. Please note that applicants that do not comply with the requirements in the section on “Eligible Applicants” will not be included in the review process.

C. Checklist for a Complete Application

The checklist below is for your use to ensure that the application package has been properly prepared.

—One original, signed and dated application plus two copies.

—Attachments/Appendices, when included, should be used only to provide supporting documentation such as resumes, and letters of agreement/support.

(1) Application for Federal Assistance (SF-424, Rev. 7-97)

(2) Budget information-non-construction programs (SF424A&B)

(3) Budget Justification, including subcontract agency budgets

(4) Application Narrative and Appendices

(5) Proof that the organization is a non-profit organization

(6) Assurances Non-Construction Program

(7) Certification Regarding Lobbying

(8) If appropriate, a completed SPOC certification with the date of SPOC contact entered in line 16, page 1 of the SF-424, Rev. 7-97

(9) Certification of Protection of Human Subjects

D. Closing Date for Receipt of Applications

The closing time and date for receipt of applications is 5:00 p.m. (Eastern Time Zone) on August 1, 2001. Mailed or handcarried applications received after 5:00 p.m. on the closing date will be classified as late.

Deadline: Mailed applications shall be considered as meeting an announced deadline if they are received on or before the deadline time and date at the ACF Operations Center, 1815 North Fort Myer Drive, Suite 300, Arlington, Virginia 22209. Applicants are responsible for mailing applications well in advance when using all mail services to ensure that the applications are received on or before the deadline time and date.

Applications handcarried by applicants, applicant couriers, or other representatives of the applicant or by overnight/express mail couriers shall be considered as meeting an announced deadline if they are received on or before the deadline date, between the hours of 8:00 a.m. and 5:00 p.m. at the ACF Operations Center, 1815 North Fort Myer Drive, Suite 300, Arlington, VA 22209, between Monday and Friday (excluding Federal Holidays). Applicants are cautioned that express/overnight mail services may not always deliver as agreed.

ACF cannot accommodate the transmission of applications by FAX or through other electronic media. Therefore, applications transmitted to ACF electronically will not be accepted regardless of date or time of submission and time of receipt.

Late applications: Applications that do not meet the criteria stated above are considered late applications. ACF will notify each late applicant that its application will not be considered in the current competition.

Extension of deadlines: ACF may extend an application deadline for applicants affected by Acts of God such as floods and hurricanes, when there is widespread disruptions of mail service, or for other disruptions of services, such as a prolonged blackout, that affect the public at large. A determination to waive or to extend deadline requirements rests with the Chief Grants Management Officer.

E. Paperwork Reduction Act of 1995

Under the Paperwork Reduction Act of 1995, Public Law 104-13, the Department is required to submit to OMB for review and approval any reporting and record keeping requirements in regulations including program announcements. All information collections within this program announcement are approved under the following current valid OMB control numbers 0348-0043, 0348-0044, 03480-0040, 0348-0046, 0925-0418 and 0970-0139.

Public reporting burden for this collection is estimated to average 10 hours per response, including the time for reviewing instructions, gathering and maintaining the data needed and reviewing the collection of information.

An agency may not conduct or sponsor and a person is not required to respond to, a collection of information unless it displays a currently valid OMB control number.

F. Required Notification of the State Single Point of Contact

This program is covered under Executive Order 12372, Intergovernmental Review of Federal Programs, and 45 CFR part 100, Intergovernmental Review of Department of Health and Human Services Program and Activities. Under the Order, States may design their own processes for reviewing and commenting on proposed Federal assistance under covered programs.

*All States and Territories except Alabama, Alaska, Arizona, Colorado, Connecticut, Hawaii, Idaho, Indiana, Kansas, Louisiana, Massachusetts, Minnesota, Montana, Nebraska, New Jersey, New York, Ohio, Oklahoma, Oregon, Pennsylvania, South Dakota, Tennessee, Vermont, Virginia, Washington, Wyoming, and Palau have elected to participate in the Executive Order process and have established Single Points of Contact (SPOCs). Applicants from these twenty-seven jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those Official State process recommendations, which may trigger the accommodation or explain rule.

When comments are submitted directly to ACF, they should be addressed to William Wilson, Head Start Bureau, 330 C Street, SW, Washington, DC 20447, Attn: Head Start Family Worker Training and Credentialing Initiative. A list of Single Points of Contact for each State and Territory can be found on the web site: http://www.whitehouse.gov/omb/grants/spoc.html

(Catalog of Federal Domestic Program Number 93.600, Project Head Start)
Dated: April 26, 2001.
Gail E. Collins,
Acting Deputy Commissioner, Administration on Children, Youth and Families.

BILLING CODE 4184-01-P

Appendix A—Application Forms, Certifications, Disclosures, and Assurances

BILLING CODE 4184-01-C

It is estimated that in 2001 the Federal Government will outlay $305.6 billion in grants to State and local governments. Executive Order 12372, “Intergovernmental Review of Federal Programs” was issued with the desire to foster the intergovernmental partnership and strengthen federalism by relying on State and local processes for the coordination and review of proposed Federal financial assistance and direct Federal development. The Order allows each State to designate an entity to perform this function. Below is the official list of those entities. For those States that have a home page for their designated entity, a direct link has been provided below. States that are not listed on this page have chosen not to participate in the intergovernmental review process, and therefore do not have a SPOC. If you are located within one of these States, you may still send application materials directly to a Federal awarding agency.

Arkansas

Tracy L. Copeland

Manager, State Clearinghouse

Office of Intergovernmental Services

Department of Finance and Administration

1515 W. 7th St., Room 412

Little Rock, Arkansas 72203

Telephone: (501) 682-1074

Fax: (501) 682-5206

tlcopeland@dfa.state.ar.us

California

Grants Coordination

State Clearinghouse

Office of Planning and Research

P.O. Box 3044, Room 222

Sacramento, California 95812-3044

Telephone: (916) 445-0613

Fax: (916) 323-3018

state.clearinghouse@opr.ca.gov

Delaware

Charles H. Hopkins

Executive Department

Office of the Budget

540 S. Dupont Highway, 3rd Floor

Dover, Delaware 19901

Telephone: (302) 739-3323

Fax: (302) 739-5661

chopkins@state.de.us

District of Columbia

Ron Seldon

Office of Grants Management and Development

717 14th Street, NW, Suite 1200

Washington, DC 20005

Telephone: (202) 727-1705

Fax: (202) 727-1617

ogmd-ogmd@dcgov.org

Florida

Florida State Clearinghouse

Department of Community Affairs

2555 Shumard Oak Blvd.

Tallahassee, Florida 32399-2100

Telephone: (850) 922-5438

(850) 414-5495 (direct)

Fax: (850) 414-0479

Georgia

Georgia State Clearinghouse

270 Washington Street, SW

Atlanta, Georgia 30334

Telephone: (404) 656-3855

Fax: (404) 656-7901

gach@mail.opb.state.ga.us

Illinois

Virginia Bova

Department of Commerce and Community Affairs

James R. Thompson Center

100 West Randolph, Suite 3-400

Chicago, Illinois 60601

Telephone: (312) 814-6028

Fax (312) 814-8485

vbova@commerce.state.il.us

Iowa

Steven R. McCann

Division of Community and Rural Development

Iowa Department of Economic Development

200 East Grand Avenue

Des Moines, Iowa 50309

Telephone: (515) 242-4719

Fax: (515) 242-4809

steve.mccann@ided.state.ia.us

Kentucky

Ron Cook

Department for Local Government

1024 Capital Center Drive, Suite 340

Frankfort, Kentucky 40601

Telephone: (502) 573-2382

Fax: (502) 573-2512

ron.cook@mail.state.ky.us

Maine

Joyce Benson

State Planning Office

184 State Street

38 State House Station

Augusta, Maine 04333

Telephone: (207) 287-3261

(207) 287-1461 (direct)

Fax: (207) 287-6489

joyce.benson@state.me.us

Maryland

Linda Janey

Manager, Clearinghouse and Plan Review Unit

Maryland Office of Planning

301 West Preston Street—Room 1104

Baltimore, Maryland 21201-2305

Telephone: (410) 767-4490

Fax: (410) 767-4480

linda@mail.op.state.md.us

Michigan

Richard Pfaff

Southeast Michigan Council of Governments

535 Griswold, Suite 300

Detroit, Michigan 48226

Telephone: (313) 961-4266

Fax: (313) 961-4869

pfaff@semcog.org

Mississippi

Cathy Mallette

Clearinghouse Officer

Department of Finance and Administration

1301 Woolfolk Building, Suite E

501 North West Street

Jackson, Mississippi 39201

Telephone: (601) 359-6762

Fax: (601) 359-6758

Missouri

Lois Pohl

Federal Assistance Clearinghouse

Office of Administration

P.O. Box 809

Jefferson Building, Room 915

Jefferson City, Missouri 65102

Telephone: (573) 751-4834

Fax: (573) 522-4395

pohll_@mail.oa.state.mo.us

Nevada

Heather Elliott

Department of Administration

State Clearinghouse

209 E. Musser Street, Room 200

Carson City, Nevada 89701

Telephone: (775) 684-0209

Fax: (775) 684-0260

helliott@govmail.state.nv.us

New Hampshire

Jeffrey H. Taylor

Director

New Hampshire Office of State Planning

Attn: Intergovernmental Review Process

Mike Blake

2½ Beacon Street

Concord, New Hampshire 03301

Telephone: (603) 271-1728

Fax: (603) 271-1728

jtaylor@osp.state.nh.us

New Mexico

Ken Hughes

Local Government Division

Room 201 Bataan Memorial Building

Santa Fe, New Mexico 87503

Telephone: (505) 827-4370

Fax: (505) 827-4948

khughes@dfa.state.nm.us

North Carolina

Jeanette Furney

Department of Administration

1302 Mail Service Center

Raleigh, North Carolina 27699-1302

Telephone: (919) 807-2323

Fax: (919) 733-9571

jeanette.furney@ncmail.net

North Dakota

Jim Boyd

Division of Community Services

600 East Boulevard Ave, Dept 105

Bismarck, North Dakota 58505-0170

Telephone: (701) 328-2094

Fax: (701) 328-2308

jboyd@state.nd.us

Rhode Island

Kevin Nelson

Department of Administration

Statewide Planning Program

One Capitol Hill

Providence, Rhode Island 02908-5870

Telephone: (401) 222-2093

Fax: (401) 222-2083

knelson@doa.state.ri.us

South Carolina

Omeagia Burgess

Budget and Control Board

Office of State Budget

1122 Ladies Street, 12th Floor

Columbia, South Carolina 29201

Telephone: (803) 734-0494

Fax: (803) 734-0645

aburgess@budget.state.sc.us

Texas

Denise S. Francis

Director, State Grants Team

Governor's Office of Budget and Planning

P.O. Box 12428

Austin, Texas 78711

Telephone: (512) 305-9415

Fax: (512) 936-2681

dfrancis@governor.state.tx.us

Utah

Carolyn Wright

Utah State Clearinghouse

Governor's Office of Planning and Budget

State Capitol, Room 114

Salt Lake City, Utah 84114

Telephone: (801) 538-1535

Fax: (801) 538-1547

cwright@gov.state.ut.us

West Virginia

Fred Cutlip, Director

Community Development Division

West Virginia Development Office

Building #6, Room 553

Charleston, West Virginia 25305

Telephone: (304) 558-4010

Fax: (304) 558-3248

fcutlip@wvdo.org

Wisconsin

Jeff Smith

Section Chief, Federal/State Relations

Wisconsin Department of Administration

101 East Wilson Street—6th Floor

P.O. Box 7868

Madison, Wisconsin 53707

Telephone: (608) 266-0267

Fax: (608) 267-6931

jeffrey.smith@doa.state.wi.us

American Samoa

Pat M. Galea‘i

Federal Grants/Programs Coordinator

Office of Federal Programs

Office of the Governor/Department of Commerce

American Samoa Government

Pago Pago, American Samoa 96799

Telephone: (684) 633-5155

Fax: (684) 633-4195

pmgaleai@samoatelco.com

Guam

Director

Bureau of Budget and Management

Research

Office of the Governor

P.O. Box 2950

Agana, Guam 96910

Telephone: 011-671-472-2285

Fax: 011-472-2825

jer@ns.gov.gu

Puerto Rico

Jose Caballero/Mayra Silva

Puerto Rico Planning Board

Federal Proposals Review Office

Minillas Government Center

P.O. Box 41119

San Juan, Puerto Rico 00940-1119

Telephone: (787) 723-6190

Fax: (787) 722-6783

North Mariana Islands

Ms. Jacoba T. Seman

Federal Programs Coordinator

Office of Management and Budget

Office of the Governor

Saipan, MP 96950

Telephone: (670) 664-2289

Fax: (670) 664-2272

omb.jseman@saipan.com

Virgin Islands

Ira Mills

Director, Office of Management and Budget

#41 Norre Gade Emancipation Garden Station, Second Floor

Saint Thomas, Virgin Islands 00802

Telephone: (340) 774-0750

Fax: (340) 776-0069

Irmills@usvi.org

Changes to this list can be made only after OMB is notified by a State's officially designated representative. E-mail messages can be sent to grants@omb.eop.gov. If you prefer, you may send correspondence to the following postal address: Attn: Grants Management, Office of Management and Budget, New Executive Office Building, Suite 6025, 725 17th Street, NW, Washington, DC.

Appendix B—Competency Goals and Indicators for Head Start Staff Working With Families

The “Competency Goals and Indicators for Head Start Staff Working with Families” described on the following pages are intended to define competencies and skills for entry-level staff who are working directly with families under ongoing supervision in furtherance of their professional development. Family Workers should be able to demonstrate their ability to provide services consistent with the requirements of the Head Start Program Performance Standards.

Today's workers are expected to exhibit a new level of professionalism to effectively support today's families. Increasingly, new organizational structures and innovative service models within Head Start require workers to:

• Develop respectful relationships with families which evolve into an individualized family partnering process which addresses the parent's role in supporting child development goals, health and disabilities goals, as well as traditional social services, family development, and parent involvement goals.

• Work in partnership with families and other community providers to develop family partnership agreements and to integrate this process into family plans when appropriate.

• Support families in their efforts to obtain employment and move towards self-sufficiency.

• Provide a new level of service in the area of family literacy, reflective of the intent of the current Head Start Program Performance Standards.

Appendix B as follows:

• Reflects the Head Start Program Performance Standards

• Reflects the latest thinking in the family support field including strength-based, family centered principles, and

• Includes new areas of competency in response to the changing role of family support staff

Indicators are listed for each area of competency. These Indicators provide a mechanism to measure individuals seeking demonstrable competency in each of the competency goal areas.

BILLING CODE 4184-01-P

Appendix C—Head Start Quality Improvement Centers

[FR Doc. 01-10901 Filed 5-2-01; 8:45 am]

BILLING CODE 4184-01-C